ENVIRONMENTAL PROTECTION AGENCY

[EPA-HQ-OECA-2009-0393; FRL-9109-6]

Agency Information Collection Activities; Submission to OMB for Review and Approval; Comment Request; NESHAP for Printing and Publishing Industry (Renewal), EPA ICR Number 1739.06, OMB Control Number 2060-0335

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. The ICR which is abstracted below describes the nature of the collection and the estimated burden and cost.

DATES: Additional comments may be submitted on or before March 8, 2010.

ADDRESSES: Submit your comments, referencing docket ID number EPA-HQ-OECA-2009-0393, to (1) EPA online using http://www.regulations.gov (our preferred method), or by e-mail to docket.oeca@epa.gov, or by mail to: EPA Docket Center (EPA/DC), Environmental Protection Agency, Enforcement and Compliance Docket and Information Center, mail code 28221T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Learia Williams, Compliance Assessment and Media Programs Division, Office of Compliance, Mail Code 2223A, Environmental Protection Agency, 1200 Pennsylvania Avenue, NW., Washington, DC 20460; telephone number: (202) 564-4113; fax number: (202) 564-0050; e-mail address: williams.learia@epa.gov.

SUPPLEMENTARY INFORMATION: EPA has submitted the following ICR to OMB for review and approval according to the procedures prescribed in 5 CFR 1320.12. On July 8, 2009 (74 FR 32580), EPA sought comments on this ICR pursuant to 5 CFR 1320.8(d). EPA received no comments. Any additional comments on this ICR should be submitted to EPA and OMB within 30 days of this notice.

EPA has established a public docket for this ICR under docket ID number EPA-HQ-OECA-2009-0393, which is available for public viewing online at http://www.regulations.gov, in person viewing at the Enforcement and Compliance Docket in the EPA Docket Center (EPA/DC), EPA West, Room 3334, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket is (202) 566-1752.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper will be made available for public viewing at http://www.regulations.gov, as EPA receives them and without change, unless the comment contains copyrighted material, Confidential Business Information (CBI), or other information whose public disclosure is restricted by statute. For further information about the electronic docket, go to http://www.regulations.gov.

Title: NESHAP for Printing and Publishing Industry (Renewal).

ICR Numbers: EPA ICR Number 1739.06, OMB Control Number 2060-0335.

ICR Status: This ICR is schedule to expire on March 31, 2010. Under OMB regulations, the Agency may continue to conduct or sponsor the collection of information while this submission is pending at OMB. An Agency may not conduct or sponsor, and a person is not required to respond to, a collection of information unless it displays a currently valid OMB control number. The OMB control numbers for EPA's regulations in title 40 of the CFR, after appearing in the Federal Register when approved, are listed in 40 CFR part 9, and displayed either by publication in the Federal Register or by other appropriate means, such as on the related collection instrument or form, if applicable. The display of OMB control numbers in certain EPA regulations is consolidated in 40 CFR part 9.

Abstract: The National Emission Standards of Hazardous Air Pollutants (NESHAP) for Printing and Publishing Industry were proposed on March 14, 1995 (60 FR 13664), promulgated on May 30, 1996 (61 FR 27131), and amended on May 24, 2006 (71 FR 29792). These standards apply to the following facilities in 40 CFR subpart KK: Publication rotogravure, product and packaging rotogravure, and wide-web flexographic printing presses at major sources. The effective date was May 30, 1999, for sources existing on May 30, 1996. For new sources or reconstructed sources after May 30, 1996, the effective date of startup is May 30, 1996, whichever is later.

Owners and operators of a new and existing area source are subject to the General Provision (40 CFR part 63, subpart A). In general, all NESHAP standards require initial notifications, performance tests plans, and periodic reports by the owners/operators of the affected facilities. For the facilities installing continuous monitoring systems (CMS), there are performance test and maintenance reports.

They are also required to maintain records of the occurrence and duration of any startup, shutdown, or malfunction in the operation of an affected facility, or any period during which the monitoring system is inoperative. These notifications, reports, and records are essential in determining compliance and are required of all affected facilities subject to NESHAP. Semiannual summary reports are also required.

Any owner or operator subject to the provisions of this subpart must maintain a file of these measurements, and retain the file for at least five years following the collection of such measurements, maintenance reports, and records.

All reports are sent to the delegated state or local authority. In the event that there is no such delegated authority, the reports are sent directly to the EPA regional office. This information is being collected to assure compliance with 40 CFR part 63, subpart KK, as authorized in sections 112 and 114(a) of the Clean Air Act. The required information consists of emissions data and other information that have been determined to be private.

An agency may not conduct or sponsor, and a person is not required to respond to, a collection of information unless it displays a currently valid OMB Control Number. The OMB Control Number for EPA regulations listed in 40 CFR part 9 and 48 CFR chapter 15, are identified on the form and/or instrument, if applicable.

Burden Statement: The annual public reporting and recordkeeping burden for this collection of information estimated to average 95 hour per response. Burden means the total time, effort, or financial resources expended by persons to generate, maintain, retain, or disclose, and provide information to or for a Federal agency. This includes the time needed to review instructions; develop, acquire, install, and utilize technology and systems for the purposes of collecting, validating, and verifying information, processing and maintaining information, and disclosing and providing information. All existing ways will have to adjust to comply with any previously applicable instructions and requirements that have subsequently changed; train personnel to be able to respond to a collection of information; search data sources; complete and review the collection of information; and transmit or otherwise disclose the information.

Respondents/Affected Entities: Printing and publishing industry.

Estimated Number of Respondents: 352.

Frequency of Response: Initially, annually, and semiannually.

Estimated Total Annual Hour Burden: 58,215.

Estimated Total Annual Cost: $5,888,997, which includes $5,474,997 in labor costs, $0 in capital/startup costs, and $414,000 in operation and maintenance (O&M) costs.

Changes in the Estimates: There is a change in this ICR as compared to the previous one. Based on our discussions with the printing and publishing industry representatives, the printing industry in particular, will be experiencing essentially a flat production in the coming years with no new facilities anticipated. This ICR also reflects the most recent hourly labor rates which, takes into account the managerial, technical and clerical burdens as compared to the previous ICR. Corrections include a minor mathematical error and recalculation of the number of responses.

There is a small increase in the capital/startup and operations and maintenance (O&M) costs from the previous ICR, which is due to rounding-up the number of affective respondents.

Dated: February 1, 2010.
John Moses,
Director, Collection Strategies Division.

[FR Doc. 2010-2536 Filed 2-4-10; 8:45 am]

BILLING CODE 6560-50-P